DEPARTMENT OF COMMERCE

International Trade Administration

[A-588-857]

Certain Welded Large Diameter Line Pipe From Japan: Preliminary Results of Changed Circumstances Review

AGENCY: Import Administration, International Trade Administration, Department of Commerce.

ACTION: Preliminary results of changed circumstances review and notice of intent to revoke in part the antidumping duty order.

SUMMARY: On June 10, 2002, the Department of Commerce (“the Department”) published a notice of initiation of a changed circumstances review and consideration of revocation, in part, of the antidumping duty order on welded large diameter line pipe from Japan with respect to certain welded large diameter line pipe as described below. See Certain Welded Large Diameter Line Pipe from Japan: Notice of Initiation of Changed Circumstances Review of the Antidumping Order, 67 FR 39682 (June 10, 2002) (“Initiation Notice”). We now preliminarily revoke this order, in part, with respect to future entries of certain welded large diameter line pipe as describe below, based on the fact that domestic parties have expressed no interest in the continuation of the order with respect to these welded large diameter line pipes.

EFFECTIVE DATE: August 16, 2002.

FOR FURTHER INFORMATION CONTACT: Shireen Pasha, Import Administration, International Trade Administration, U.S. Department of Commerce, 14th Street and Constitution Avenue, NW., Washington, DC 20230; telephone: (202) 482-0193.

The Applicable Statute and Regulations

Unless otherwise indicated, all citations to the statute are references to the provisions effective January 1, 1995, the effective date of the amendments made to the Tariff Act of 1930, as amended (“the Act”), by the Uruguay Round Agreements Act. In addition, unless otherwise indicated, all citations to the Department's regulations are to the regulations as codified at 19 CFR part 351 (2002).

SUPPLEMENTARY INFORMATION:

Background

On December 6, 2001, the Department published in the Federal Register the antidumping duty order on certain welded large diameter line pipe from Japan. See Notice of Antidumping Duty Order: Certain Welded Large Diameter Line Pipe from Japan, 66 FR 63368 (December 6, 2001) (“LDLP Order”). On April 17, 2002, BP America, Inc. (“BP America”), a U.S. importer, requested that the Department revoke in part the antidumping duty order on certain welded large diameter line pipe from Japan. Specifically, the U.S. importer requested that the Department revoke the order with respect to imports meeting the following specifications and sizes: In API grades X80 or above, having an outside diameter of 48 inches to and including 52 inches, and with a wall thickness of 0.90 inch or more; and, in API grades X100 or above, having an outside diameter of 48 inches to and including 52 inches, and with a wall thickness of 0.54 inch or more. BP America indicated that, based on its consultations with domestic producers, the domestic producers lack interest in producing these sizes.

American Cast Iron Pipe Co., American Steel Pipe Division; Berg Steel Pipe Corp.; and Stupp Corp., the petitioners in the underlying sales at less-than-fair-value investigation (“the petitioners”) (See LDLP Order), filed a letter on May 7, 2002, partially consenting to BP America's request. However, on May 21, 2002, the petitioners filed another letter rescinding their initial response and fully consenting to exclusion of these products from the order, i.e. in API grades X80 or above, having an outside diameter of 48 inches to and including 52 inches, and with a wall thickness of 0.90 inch or more; and, in API grades X100 or above, having an outside diameter of 48 inches to and including 52 inches, and with a wall thickness of 0.54 inch or more. On June 10, 2002, the Department published a notice of initiation of a changed circumstances review of the antidumping duty order on certain welded large diameter line pipe from Japan, meeting the specifications mentioned above. See Initiation Notice.

Scope of Review

The product covered by this antidumping order is certain welded carbon and alloy line pipe, of circular cross section and with an outside diameter greater than 16 inches, but less than 64 inches, in diameter, whether or not stencilled. This product is normally produced according to American Petroleum Institute (API) specifications, including Grades A25, A, B, and X grades ranging from X42 to X80, but can also be produced to other specifications. The product currently is classified under U.S. Harmonized Tariff Schedule (HTSUS) item numbers 7305.11.10.30, 7305.11.10.60, 7305.11.50.00, 7305.12.10.30, 7305.12.10.60, 7305.12.50.00, 7305.19.10.30. 7305.19.10.60, and 7305.19.50.00. Although the HTSUS item numbers are provided for convenience and customs purposes, the written description of the scope is dispositive. Specifically not included within the scope of this investigation is American Water Works Association (AWWA) specification water and sewage pipe and the following size/grade combinations; of line pipe:

—Having an outside diameter greater than or equal to 18 inches and less than or equal to 22 inches, with a wall thickness measuring 0.750 inch or greater, regardless of grade.

—Having an outside diameter greater than or equal to 24 inches and less than 30 inches, with wall thickness measuring greater than 0.875 inches in grades A, B, and X42, with wall thickness measuring greater than 0.750 inches in grades X52 through X56, and with wall thickness measuring greater than 0.688 inches in grades X60 or greater.

—Having an outside diameter greater than or equal to 30 inches and less than 36 inches, with wall thickness measuring greater than 1.250 inches in grades A, B, and X42, with wall thickness measuring greater than 1.000 inches in grades X52 through X56, and with wall thickness measuring greater than 0.875 inches in grades X60 or greater.

—Having an outside diameter greater than or equal to 36 inches and less than 42 inches, with wall thickness measuring greater than 1.375 inches in grades A, B, and X42, with wall thickness measuring greater than 1.250 inches in grades X52 through X56, and with wall thickness measuring greater than 1.125 inches in grades X60 or greater.

—Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

—Having an outside diameter equal to 48 inches, with a wall thickness measuring 1.0 inch or greater, in grades X-80 or greater.

Preliminary Results of Review and Intent To Revoke in Part the Antidumping Duty Order

Pursuant to sections 751(d)(1) of the Act, the Department may revoke an antidumping or countervailing duty order, in whole or in part, based on a review under section 751(b) of the Act (i.e., a changed circumstances review). Section 751(b)(1) of the Act requires a changed circumstances review to be conducted upon receipt of a request, which shows changed circumstances sufficient to warrant a review. Section 351.222(g)(1) of the Department's regulations provides that the Department may revoke an order (in whole or in part) based on changed circumstances, if it determines that: (i) Producers accounting for substantially all of the production of the domestic like product to which the order (or part of the order to be revoked) pertains have expressed a lack of interest in the relief provided by the order, in whole or in part, or (ii) if other changed circumstances sufficient to warrant revocation exist.

The Department preliminarily determines that it is appropriate to revoke the order, in part, on certain welded large diameter line pipe from Japan with respect to the specifications and sizes mentioned above, because (1) the petitioners have uniformly expressed that they do not want relief with respect to this particular sub-product, and (2) there have been no contrary expressions from the remainder of the known LDLP producers.

Interested parties wishing to comment on these results may submit briefs to the Department no later than 30 days after the publication of this notice in the Federal Register. Parties will have five days subsequent to this due date to submit rebuttal comments, limited to the issues raised in those comments. Parties who submit comments or rebuttal comments in this proceeding are requested to submit with the argument (1) a statement of the issue and (2) a brief summary of the argument (no longer than five pages, including footnotes). Any requests for a hearing must be filed within 30 days of the publication of this notice in the Federal Register.

All written comments must be submitted in accordance with 19 CFR 351.303, and must be served on all interested parties on the Department's service list. The Department will also issue its final results of review within 270 days after the date on which the changed circumstances review is initiated, in accordance with 19 CFR 351.216(e), and will publish these results in the Federal Register. While the changed circumstances review is underway, the current requirement for a cash deposit of estimated antidumping duties on all subject merchandise, including the merchandise that is the subject of this changed circumstances review, will continue unless and until it is modified pursuant to the final results of this changed circumstances review or an administrative review.

This notice is in accordance with sections 751(b)(1) and 777(i)(1) of the Act and 19 CFR 351.216 and 351.222.

Dated: August 8, 2002.
Faryar Shirzad,
Assistant Secretary for Import Administration.

[FR Doc. 02-20902 Filed 8-15-02; 8:45 am]

BILLING CODE 3510-DS-P